ENVIRONMENTAL PROTECTION AGENCY

[ER-FRL-6631-9]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-BLM-J65240-WY Rating EC2, Pittsburg and Midway (P&M) Coal Mining Proposal (WYW148816), Exchange of Private Owned Land P&M for Federally-Owned Coal, Lincoln, Carbon and Sheridan Counties, WY.

Summary: EPA expressed environmental concerns with impacts to air quality and the potential release of nitrous oxides from open pit blasting operations. The final EIS should address potential impacts to migratory birds, fire risk from coal seam fires on the exchanged lands and impacts from reasonably foreseeable energy development such as the possibility of an adjacent open pit coal mine.

ERP No. D-FHW-J40156-WY Rating EC2, Wyoming Forest Highway 4 U.S. 212 (KP 39.5 to KP 69.4) the Beartooth Highway, A Portion Proposed for Reconstruction begins 7.1 miles east of the Junction of WY-296 (Chief Joseph Highway) and Proceeds East for 18.6 miles to the Wyoming/Montana State Line, Park County, WY.

Summary: EPA expressed environmental concerns and recommended developing additional alternatives to reduce impacts to wetlands and other valuable ecosystems bisected by the Beartooth Highway.

Final EISs

ERP No. F-COE-E39056-FL, Lake Tohopekaliga Extreme Drawdown and Habitat Enhancement Project, Fish and Wildlife Habitat Improvements, Construction, Operation and Maintenance, Osceola County, FL.

Summary: EPA continues to have some significant environmental concerns about the impacts of converting littoral wetland habitat into muck disposal islands.

ERP No. F-DOE-E06019-SC, Savannah River Site, High-Level Waste Tank Closure (DOE/EIS-0303D), Implementation, Industrial Wastewater Closure Plan for the F and H-Area High-Level Waste Tank Systems, Aiken County, SC.

Summary: EPA continues to have environmental concerns about the project. In particular environmental restoration engineered capping, and tank closure issues warrant further discussion as the project progresses.

Dated: August 5, 2002.
Joseph C. Montgomery,
Director, NEPA Compliance Division, Office of Federal Activities.

[FR Doc. 02-20231 Filed 8-8-02; 8:45 am]

BILLING CODE 6560-50-P